DEPARTMENT OF ENERGY

Federal Energy Regulatory Commission

18 CFR Part 284

[Docket No. RM08-2-000]

Transparency Provision Under Section 23 of the Natural Gas Act

January 10, 2008.

AGENCY: Federal Energy Regulatory Commission, DOE.

ACTION: Notice of Technical Conference.

SUMMARY: The Federal Energy Regulatory Commission is holding a technical conference to address implementation issues associated with the Commission's posting proposal, such as obtaining and posting actual and scheduled flow information and obtaining and posting flow information from storage facilities, as set for in the Notice of Proposed Rulemaking issued December 21, 2007, in Commission Docket No. RM08-2-000.

DATES: The conference is to be held on February 28, 2008.

FOR FURTHER INFORMATION CONTACT: Saida E. Shaalan, Energy Information Analyst, Federal Energy Regulatory Commission, 888 First Street, NE., Washington, DC 20426, 202-502-8278, saida.shaalan@ferc.gov.

SUPPLEMENTARY INFORMATION:

Notice of Technical Conference

The staff of the Federal Energy Regulatory Commission (Commission) will hold a technical conference in the above-referenced proceeding on February 28, 2008, at the Federal Energy Regulatory Commission, 888 First Street, NE., Washington, DC 20426 in the Commission Meeting Room (2-C) from 9:30 a.m. until 3 p.m. (EST). The staff is holding this conference to address implementation issues associated with the posting proposal, such as obtaining and posting actual and scheduled flow information and obtaining and posting information from storage facilities. This is as set forth in the Notice of Proposed Rulemaking (NOPR), Pipeline Posting Requirements under Section 23 of the Natural Gas Act, 73 FR 1116 (January 7, 2008), FERC Stat. & Regs. ¶ 32,626 (2007).

People interested in speaking at the conference may send brief descriptions of the issues they would like to address to Saida Shaalan at Saida.Shaalan@FERC.gov.

This conference will not be Web-cast or transcribed. All interested persons are invited, and there is no registration fee to attend. Comments should be filed in Docket RM08-2-000, in accordance with the dates set in the rulemaking docket.

Commission conferences are accessible under section 508 of the Rehabilitation Act of 1973. For accessibility accommodations please send an e-mail to accessibility@ferc.gov or call toll free 1-866-208-3372 (voice) or 202-208-1659 (TTY), or send a FAX to 202-208-2106 with the required accommodations.

Questions about the conference should be directed to Saida Shaalan by e-mail at Saida.Shaalan@FERC.gov or by phone at 202-502-8278.

Kimberly D. Bose,
Secretary.

[FR Doc. E8-1152 Filed 1-23-08; 8:45 am]

BILLING CODE 6717-01-P